DEPARTMENT OF DEFENSE

Department of the Army

Proposed Collection; Comment Request

AGENCY: Deputy Chief of Staff for Personnel (DAPE-ZXI-RM), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 19, 2000.

ADDRESSES: Written comments and recommendations on the proposed information collection should be sent to, U.S. Army Corps of Engineers IRWR, Waterborne Commerce Statistics Center, P.O. Box 61280, New Orleans, Louisiana 70161-1280, ATTN: CEWRC-NDC-CQ, (Jay A. Wieriman). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title, Associated Form, and OMB Number: Description of Vessels, Description of Operations, ENG Form 3931, and 3932, OMB Control Number 0710-0009.

Needs and Uses: The publication Waterborne Transportation Lines of the United States, Volume 1, 2, and 3 contain information on the vessel operator and their American Flag vessels operating or available for operation on the inland waterways of the United States in the transportation of freight and passengers.

Affected Public: Business or other for profit.

Annual Burden Hours: 2,000.

Number of Respondents: 2,500.

Responses Per Respondent: 1.

Average Burden Per Response: 48 minutes.

Frequency: Mandatory.

SUPPLEMENTARY INFORMATION: The data is also used by the U.S. Coast Guard and other Federal and State agencies involved in transportation. If this data collection effort is not permitted, accurate U.S. Flag fleet statistics will not be available for use by the Corps of Engineers and other agencies.

Gregory D. Showalter,
Army Federal Register Liaison Officer.

[FR Doc. 00-27065 Filed 10-19-00; 8:45 am]

BILLING CODE 3710-08-P